Memorandum of August 17, 2010

Designation of Officials of the Court Services and Offender Supervision Agency to Act as Director

Memorandum for the Director of the Court Services and Offender Supervision Agency for the District of Columbia

By the authority vested in me as President by the Constitution and the laws of the United States of America, including the Federal Vacancies Reform Act of 1998, 5 U.S.C. 3345 et seq., it is hereby ordered that:

Section 1. Order of Succession. Subject to the provisions of section 2 of this memorandum, the following officials of the Court Services and Offender Supervision Agency for the District of Columbia, in the order listed, shall act as and perform the functions and duties of the office of Director of the Court Services and Offender Supervision Agency for the District of Columbia (Director) during any period in which the Director has died, resigned, or otherwise become unable to perform the functions and duties of the office of the Director, until such time as the Director is able to perform the functions and duties of that office:

(a) Deputy Director;

(b) Associate Director, Legislative, Intergovernmental, and Public Affairs;

(c) Associate Director, Management and Administration;

(d) Associate Director, Community Supervision Services;

(e) Associate Director, Community Justice Programs;

(f) General Counsel;

(g) Chief Information Officer, Information Technology; and

(h) Associate Director, Human Resource Management.

Sec. 2. Exceptions.

(a) No individual who is serving in an office listed in section 1 in an acting capacity, by virtue of so serving, shall act as Director pursuant to this memorandum.

(b) No individual listed in section 1 shall act as Director unless that individual is otherwise eligible to so serve under the Federal Vacancies Reform Act of 1998.

(c) Notwithstanding the provisions of this memorandum, the President retains the discretion, to the extent permitted by law, to depart from this memorandum in designating an acting Director.

Sec. 3. This memorandum is intended to improve the internal management of the executive branch and is not intended to, and does not, create any right or benefit, substantive or procedural, enforceable at law or in equity by any party against the United States, its departments, agencies, or entities, its officers, employees, or agents, or any other person.

Sec. 4. You are authorized and directed to publish this memorandum in the Federal Register.

THE WHITE HOUSE,

Washington, August 17, 2010

[FR Doc. 2010-21039

Filed 8-20-10; 8:45 am]

Billing code 3129-01-P